DEPARTMENT OF AGRICULTURE

Forest Service

Plan Revision for Apache-Sitgreaves National Forests, Apache, Coconino, Greenlee, and Navajo Counties, Arizona

AGENCY: Forest Service, USDA.

ACTION: Notice of intent to revise the forest plan.

SUMMARY: As directed by the National Forest Management Act, the USDA Forest Service is preparing the Apache-Sitgreaves National Forests' revised land management plan (forest plan) and will also prepare an Environmental Impact Statement (EIS) for this revised forest plan. This notice briefly describes the nature of the decision to be made, the need for change and proposed action, and information concerning public participation. It also provides estimated dates for filing the EIS and the names and addresses of the responsible agency official and the individuals who can provide additional information. Finally, this notice briefly describes the applicable planning rule and how plan revision work completed under the 2008 planning rule will be used or modified for completing this plan revision.

The revised forest plan will supersede the current forest plan that was approved by the Regional Forester in August 1987. The current forest plan has been amended 14 times since its approval, including 6 significant amendments that clarified riparian, fire, timber, and recreation issues, adjusted the monitoring program, and added direction for the Mexican spotted owl, the northern goshawk, and old growth. This current forest plan will remain in effect until the revised forest plan takes effect.

DATES: Comments concerning the need for change provided in this notice will be most useful in the development of the draft revised forest plan and EIS if received by February 1, 2010. The agency expects to release a draft revised forest plan and draft EIS for formal comment by fall, 2010 and a final revised forest plan and final EIS by summer, 2011. Public meetings to gather input on potential alternatives to the proposed action are scheduled for spring, 2010. The dates, times, and locations of these meetings will be posted on the forests' Web site: http://www.fs.fed.us/r3/asnf/plan-revision/.

ADDRESSES: Send written comments to: Apache-Sitgreaves National Forests, Attention: Forest Plan Revision Team, P.O. Box 640, Springerville, Arizona 85938. Comments may also be sent via e-mail: asnf.planning@fs.fed.us, or via facsimile to 928-333-5966.

FOR FURTHER INFORMATION CONTACT: Michelle Davalos, Forest Planner, Apache-Sitgreaves National Forests, P.O. Box 640, Springerville, Arizona 85938, (928) 333-6334. Information regarding this revision is also available at the Apache-Sitgreaves National Forests' revision Web site: http://www.fs.fed.us/r3/asnf/plan-revision/. Individuals who use telecommunication devices for the deaf (TDD) may call the Federal Information Relay Service (FIRS) at 1-800-877-8339 between 8 AM and 8 PM, Eastern Time Monday through Friday.

SUPPLEMENTARY INFORMATION:

Name and Address of the Responsible Official

Corbin Newman, Regional Forester, Southwestern Region, 333 Broadway SE., Albuquerque, NM 87102.

Nature of the Decision To Be Made

The Apache-Sitgreaves National Forests are preparing an EIS to revise the current forest plan. The EIS process is meant to inform the Regional Forester so that he can decide which alternative best meets the need to achieve quality land management under the sustainable multiple-use management concept to meet the diverse needs of people while protecting the forests' resources, as required by the National Forest Management Act and the Multiple Use Sustained Yield Act.

The revised forest plan will describe the strategic intent of managing the Apache-Sitgreaves National Forests into the next 10 to 15 years and will address the need for change described below. The revised forest plan will provide management direction in the form of goals (desired conditions), objectives, suitability determinations, standards, guidelines, and a monitoring plan. It may also make new special area recommendations for wilderness, research natural areas, and other special areas.

As important as the decisions to be made is the identification of the types of decisions that will not be made within the revised forest plan. The authorization of project-level activities on the forests is not a decision made in the forest plan but occurs through subsequent project specific decision-making. The designation of routes, trails, and areas for motorized vehicle travel are not considered during plan revision, but are addressed in the concurrent, but separate, EIS for public motorized travel planning on the Apache-Sitgreaves National Forests. Some issues (e.g., hunting regulations), although important, are beyond the authority or control of the Apache-Sitgreaves National Forests and will not be considered. In addition, some issues, such as wild and scenic river suitability determinations, may not be undertaken at this time, but addressed later as a future forest plan amendment.

Need for Change and Proposed Action

According to the National Forest Management Act, forest plans are to be revised on a 10 to 15 year cycle. The purpose and need for revising the current forest plan are (1) the forest plan is over 20 years old, and (2) since the forest plan was approved in 1987, there have been changes in economic, social, and ecological conditions, new policies and priorities, and new information based on monitoring and scientific research. Extensive public and employee collaboration, along with science-based evaluations, identified the need for change in the current forest plan. This need for change has been organized into three revision topics that focus on the sustainability of ecological, social, and economic systems: (1) Maintenance and Improvement of Ecosystem Health, (2) Managed Recreation, and (3) Community-Forest Interaction. The need for change is described fully in the Comprehensive Evaluation Report and the Analysis of the Management Situation supplement document, both of which are available on the forests' Web site: http://www.fs.fed.us/r3/asnf/plan-revision/documents.shtml. The proposed action is to revise the current forest plan to address the three revision topics.

Revision Topic 1—Maintenance and Improvement of Ecosystem Health

Conditions have changed since the current forest plan was issued in 1987 including the recognition that vegetation conditions (structure, composition, and function) are divergent from historic conditions; forest conditions indicate a substantial departure from the natural fire regime; and there are plant and animal species which need further consideration in the planning process. There are also emerging issues not addressed by the current forest plan (e.g., non-native invasive plants and animals, climate change).

Proposed Action

• Better describe desired conditions for the vegetative communities of the forests. The vegetative communities include ponderosa pine, wet mixed conifer, dry mixed conifer, spruce-fir, and aspen forests, piñon-juniper and Madrean pine-oak woodlands, Great Basin, semi-desert, and montane/subalpine grasslands, interior chaparral, mixed broadleaf deciduous, montane willow, and cottonwood-willow riparian forests, and wetland/cienega riparian areas. The revised forest plan will describe the desired composition, structure, and cover of these vegetation types that will result in resilient, functioning ecosystems.

• Identify the desired fire regime that will help to restore fire to a more natural role as one of the forests' primary disturbance agents.

• Provide direction to guide future vegetation management activities, including burning and mechanical treatments, to move towards or maintain desired conditions.

• Incorporate management direction to guide future projects to provide habitat to maintain viable populations of existing native and desired non-native vertebrate species in the planning area.

• Include appropriate standards and guidelines to provide direction to maintain species diversity and viability across the planning area.

• Reevaluate and update the Management Indicator Species (MIS). MIS are species whose population changes are believed to indicate the effects of management activities. MIS are selected to allow evaluation of the differences between alternatives in the EIS.

• Add plan components to provide future project direction to control, treat, and eradicate non-native plant and animal invasive species.

• Address the emerging issue of climate change by incorporating adaptive management strategies and describing ecological conditions that are resilient to change.

Revision Topic 2—Managed Recreation

There are several concerns related to unmanaged recreation that are not adequately addressed in the current forest plan. These include increasing recreational use of the forests and changing demographics of forest users. There are also special areas that were not mentioned in the current forest plan (e.g., scenic byways), as well as rivers that are eligible for the National Wild and Scenic Rivers System. There may be National Forest System lands that could be recommended to Congress for designation into the National Wilderness Preservation System.

Proposed Action

• Update the spectrum of recreation opportunities to reflect current and projected recreation needs, natural resource impacts, and public input. This includes identification of areas that are developed for high use and areas that resemble more natural landscapes.

• Identify the suitability of areas on the forests for motorized vehicle use and other recreational activities, in conformance with travel planning concurrently being addressed on the forests.

• Incorporate direction for special areas that were not included in the current forest plan, including recommended research natural areas, the Heber Wild Horse Territory, scenic byways, and national recreation trails.

• Recommend additional special areas (i.e., research natural areas) where needed. The intent is to recommend these areas in the revised forest plan; subsequent analyses would determine whether they should become official designated areas.

• Recognize the management requirements for rivers that are eligible for the National Wild and Scenic Rivers System. The Eligibility Report for the National Wild and Scenic River System was completed in May 2009 and found approximately 358 miles of 23 rivers that are eligible for inclusion into the National Wild and Scenic River System. This report is available on the forests' Web site: http://www.fs.fed.us/r3/asnf/plan-revision/documents.shtml.

• Evaluate lands for wilderness potential and, if determined to be appropriate by the responsible official, recommend designation by Congress and provide interim management guidance. Note: the draft potential wilderness evaluation was published in June 2009 and is available on the forests' Web site: http://www.fs.fed.us/r3/asnf/plan-revision/documents.shtml.

Revision Topic 3—Community-Forest Interaction

There are several social concerns that cause a need to change the current forest plan. Communities are at risk from uncharacteristic wildfire. There are increasing demands for goods, services, and forest access from growing populations and urban developments that border the forests. Many communities are surrounded by the forests and can be affected by adjustment to the forests' land ownership. Commodity use and production have shown declines from the past. However, these forest uses contribute to sustaining the lifestyles and traditions of local communities. Energy resource demands also continue to grow.

Proposed Action

• Provide direction to address communities at risk from uncharacteristic wildfire. This includes describing the appropriate vegetation desired conditions and fire regime, and treatment of the wildland-urban interface.

• Provide guidelines and suitability determinations for addressing urban interface demands (access, trailheads, special use permits).

• Update guidelines regarding land ownership adjustments that better reflects community expansion needs and preservation of open space.

• Continue to provide a sustainable supply of forest and rangeland resources that is consistent with achieving desired conditions and that supports local communities. Determine the suitability of lands for timber production and the allowable sale quantity of timber.

• Identify major existing energy (utility) corridors and provide management direction for these areas. Update the criteria for establishing new energy corridors.

Public Involvement

Extensive public involvement and collaboration has already occurred. Informal discussions with the public regarding needed changes to the current forest plan began with a series of public meetings during the summer of 2006. This input, along with science-based evaluations, was used to determine the need for change identified above. Additional meetings, correspondence, news releases, comment periods, and other tools have been utilized to gather feedback from the public, forest employees, tribal governments, federal and state agencies, and local governments.

More recent public involvement focused on the development, review, and comment of the Working Draft Land Management Plan which was released in June 2009 (http://www.fs.fed.us/r3/asnf/plan-revision/draftLMP/ASNF-Working-Draft-Plan-2009-06-15.pdf). This document was developed based upon public and employee collaboration. A modified version of this draft will be analyzed as one alternative in the EIS process.

The forests will continue regular and meaningful consultation and collaboration with tribal nations on a government-to-government basis. The agency will work with tribal governments to address issues concerning Indian tribal self-government and sovereignty, natural and cultural resources held in trust, Indian tribal treaty and Executive order rights, and any issues that significantly or uniquely affect their communities.

The forests desire to continue collaborative efforts with members of the public who are interested in forest management, as well as federal and state agencies, local governments, and private organizations.

Public meetings to gather input on potential alternatives to the proposed action are scheduled for spring, 2010. The dates, times, and locations of these meetings will be posted on the forests' Web site: http://www.fs.fed.us/r3/asnf/plan-revision/. The information gathered at these meetings, as well as other feedback, will be used to prepare the draft EIS.

At this time, the Apache-Sitgreaves National Forests are seeking input on the need for change and proposed action: did we miss any substantive issues or concerns? It is important that reviewers provide their comments at such times and in such a way that they are useful to the agency's preparation of the revised forest plan and the EIS. Therefore, comments on the proposed action and need for change will be most valuable if received by February 1, 2010 and should clearly articulate the reviewer's concerns. The submission of timely and specific comments can affect a reviewer's ability to participate in subsequent administrative or judicial review. At this time, we anticipate using the 2000 planning rule pre-decisional objection process (36 CFR 219.32) for administrative review.

Comments received in response to this solicitation, including the names and addresses of those who comment will be part of the public record. Comments submitted anonymously will be accepted and considered.

Applicable Planning Rule

Preparation of the revised forest plan was underway when the 2008 National Forest System land and resource management planning rule (planning rule) was enjoined on June 30, 2009, by the United States District Court for the Northern District of California (Citizens for Better Forestry v. United States Department of Agriculture, No. C 08-1927 CW (N.D. Cal. June 30, 2009). The Department of Agriculture has determined that the 2000 planning rule is once again in effect. The 2000 planning rule's transition provisions (36 CFR 219.35), amended in 2002 and 2003 and clarified by interpretative rules issued in 2001 and 2004, allow use of the provisions of the planning rule in effect prior to the effective date of the 2000 Rule (November 9, 2000), commonly called the 1982 planning rule, to amend or revise forest plans. The Apache-Sitgreaves National Forests has elected to use the provisions of the 1982 planning rule, including the requirement to prepare an EIS, to complete its plan revision.

Prior to the enjoinment of the 2008 planning rule, the Apache-Sitgreaves National Forests had been working to revise the current forest plan. Informal revision efforts began in the summer of 2006, with collaborative discussions regarding the need to change the forest plan and forest.

A formal Notice of Initiation to revise the forest plan was published on December 16, 2008, in the Federal Register, Vol. 65, No. 212, p. 65290. That notice also requested review on the Comprehensive Evaluation Report, the Ecological Sustainability Report, and the Economic and Social Assessment (documents that provide evaluations of social, economic, and ecological conditions and trends in and around the forests).

The forests had begun collaborative development of forest plan components during summer, 2008. The latest set of plan components, the Working Draft Land Management Plan, was made available for review and comment in June 2009. A draft potential wilderness evaluation of the Apache-Sitgreaves National Forests was also made available for review and comment in June 2009. The Comprehensive Evaluation Report was further supplemented in December 2009 to conform to the Analysis of the Management Situation need for change requirements of the 1982 rule provisions. These documents are available on the forests' Web site: http://www.fs.fed.us/r3/asnf/plan-revision/documents.shtml.

Although the 2008 planning rule is no longer in effect, information and data gathered prior to the court's injunction is still useful for completing the plan revision using the provisions of the 1982 planning rule. For example, the following material developed during the plan revision process to date is appropriate for continued use in the revision process:

• The Comprehensive Evaluation Report that was completed in December 2008 forms the basis for need to change the current forest plan and the proposed action for the plan revision.

• The Comprehensive Evaluation Report was supplemented in December 2009 with additional information to conform to the Analysis of Management Situation need for change provisions of the 1982 planning rule. The need for change previously identified in the Comprehensive Evaluation Report has been verified by this supplementary information; no new need for change was identified.

• The Ecological Sustainability Report that was completed in December 2008 will continue to be used as a reference in the planning process as appropriate to those items in conformance with the 2000 planning rule transition language and 1982 planning rule procedures. This is scientific information and is not affected by the change of planning rule. This information will be updated with any new available information.

• The Economic and Social Assessment that was completed in June 2008 and updated in January 2009 is not affected by the change in planning rule and will continue to be used as a reference in the planning process. This information will be updated with any new available information.

• The draft evaluation of potential wilderness areas that was made available for public review and comment in June 2009 is consistent with appropriate provisions of the 1982 planning rule and will be brought forward into this plan revision process.

• There are additional background reports, assessments, datasets, and public comment that will be used, some of which can be found on the forests' Web site: http://www.fs.fed.us/r3/asnf/plan-revision/documents.shtml.

As necessary or appropriate, this material will be further adjusted as part of the planning process using the provisions of the 1982 planning rule.

(Authority: 16 U.S.C. 1600-1614; 36 CFR 219.35)

Dated: December 18, 2009.
Chris Knopp,
Forest Supervisor.

[FR Doc. E9-30665 Filed 12-28-09; 8:45 am]

BILLING CODE 3410-11-P